DEPARTMENT OF HOMELAND SECURITY

Coast Guard

[USCG-2003-16675]

Random Drug-Testing Rate for Covered Crewmembers; Calendar Year 2004

AGENCY: Coast Guard, DHS.

ACTION: Notice of minimum random drug-testing rate.

SUMMARY: The Coast Guard has set the calendar year 2004 minimum random chemical drug-testing rate at 50 percent of covered crewmembers. An evaluation of the 2002 Management Information System (MIS) data collection forms submitted by marine employers showed that random drug testing on covered crewmembers for the calendar year 2002 resulted in positive test results 1.63 percent of the time. Therefore, we will maintain the minimum random drug-testing rate at 50 percent of covered crewmembers for the calendar year 2004.

DATES: The minimum random drug-testing rate is effective January 1, 2004 through December 31, 2004. You must submit your 2003 MIS reports by March 15, 2004.

ADDRESSES: The annual MIS report may be submitted in writing to Commandant (G-MOA), U.S. Coast Guard Headquarters, 2100 Second Street SW., Room 2404, Washington, DC 20593-0001 or by electronic submission to the following Internet address: http://www.uscg.mil/hq/g-m/moa/dapip.htm.

FOR FURTHER INFORMATION CONTACT: For questions about this notice, please contact Mr. Robert C. Schoening, Drug and Alcohol Program Manager, Office of Investigations and Analysis (G-MOA), U.S. Coast Guard Headquarters, telephone (202) 267-0684. If you have questions on viewing the docket, call Andrea M. Jenkins, Program Manager, Dockets Operations, Department of Transportation, telephone (202) 366-0271.

SUPPLEMENTARY INFORMATION: Under 46 CFR 16.230, the Coast Guard requires marine employers to establish random drug testing programs for covered crewmembers on inspected and uninspected vessels. Marine employers are required to collect and maintain a record of drug testing program data for each calendar year, January 1 through December 31 and must submit this data by March 15 of the following year to the Coast Guard in an annual MIS report. You may either submit your own MIS report or have a consortium or other employer representative submit the data in a consolidated MIS report. The Coast Guard uses the chemical drug testing data to develop its policies for deterring and detecting illegal drug use in the maritime industry.

Because 2002 MIS data shows that the positive results from random testing are greater than one percent industry-wide (1.63 percent), the Coast Guard's minimum random drug testing rate will remain at 50 percent of covered employees for the period of January 1, 2004, through December 31, 2004, in accordance with 46 CFR 16.230(e).

Each year we will publish a notice reporting the results of the previous calendar year's MIS data and the minimum annual percentage rate for random chemical drug testing for the next calendar year.

Dated: December 4, 2003.
Howard L. Hime,
Acting Director of Standards.

[FR Doc. 03-30904 Filed 12-12-03; 8:45 am]

BILLING CODE 4910-15-P